DEPARTMENT OF THE INTERIOR

U.S. Geological Survey

[GR18ND00GQ44100; OMB Control Number 1028-NEW]

Agency Information Collection Activities; Efficacy of Oak Savanna Restoration History Information Request

AGENCY: U.S. Geological Survey, Interior.

ACTION: Notice of Information Collection; request for comment.

SUMMARY: In accordance with the Paperwork Reduction Act of 1995, we, the U.S. Geological Survey (USGS) are proposing a new information collection.

DATES: Interested persons are invited to submit comments on or before June 25, 2018.

ADDRESSES: Send your comments on the information collection request (ICR) by mail to the U.S. Geological Survey, Information Collections Clearance Officer, 12201 Sunrise Valley Drive MS 159, Reston, VA 20192; or by email to gs-info_collections@usgs.gov. Please reference OMB Control Number 1028-NEW in the subject line of your comments.

FOR FURTHER INFORMATION CONTACT: To request additional information about this ICR, contact Noel B. Pavlovic by email at npavlovic@usgs.gov, or by telephone at 219-926-8336 X428.

SUPPLEMENTARY INFORMATION: In accordance with the Paperwork Reduction Act of 1995, we provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the research being conducted by the USGS; (2) will this information be processed and used in a timely manner; (3) is the estimate of burden accurate; (4) how might the information gathered enhance the quality, utility, and clarity of the research being conducted; and (5) how might the researchers minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Abstract: We will ask land managers, in the areas where we have sampled the oak savanna vegetation, a standardized set of questions to assess qualitative and quantitative history of land management actions at the site. The historic information garnered from the excel spreadsheet (provided to the managers) and interviews, if necessary, with Federal, State, and private land managers (e.g. The Nature Conservancy and local land trusts) will be used in the statistical analysis of patterns and state of oak savanna vegetation in response to fundamental and management actions that have occurred prior to the sampling. For example at any oak savanna site, we may sample locations where there has been no management, where burning has occurred, and/or where burning and cutting has occurred. In this example, information will be sought for each case, such as last known burn in the first case, time since last burn, and other previous burn dates for the second case, and dates of burns and cutting and cutting type in the third case. This information will allow us to understand how the lack or presence of management has influenced the quality of oak savanna recovery. Fundamental factors include things like time since last burn, fire frequency and period of fire suppression. Management actions include history of on the ground management such as time and date of tree cutting, has grazing occurred and when it was terminated if not actively being conducted, and dates and number of prescribed burns. These manager responses will be converted to variables that can be statistically analyzed, such as time since last burn in years, number of fires over a specific time period and presence or absence of cutting or thinning. These qualitative and quantitative variables will be incorporated into the statistical analysis of the quality of the vegetation, i.e. species richness and diversity and composition variation. The data will include time since last fire, fire frequency, fire return interval and others if available or can be calculated from the information gathered. The data collected will be critical for interpreting the results of the ordination and structural equation modeling techniques that will be employed.

Title of Collection: Efficacy of Oak Savanna Management History Information Request.

OMB Control Number: 1028-NEW.

Form Number: None.

Type of Review: New.

Respondents/Affected Public: Federal, State, local government land managers and other private land management entities in southern lower Michigan, northwest Ohio, northern Indiana, northeast Illinois, and southeastern Wisconsin.

Total Estimated Number of Annual Respondents: 30.

Total Estimated Number of Annual Responses: 30.

Estimated Completion Time per Response: 2 hours.

Total Estimated Number of Annual Burden Hours: 60 hours.

Respondent's Obligation: Voluntary.

Frequency of Collection: The respondents will provide information one time.

Total Estimated Annual Non-hour Burden Cost: $0.

An agency may not conduct or sponsor and a person is not required to respond to a collection of information unless it displays a currently valid OMB control number. The authorities for this action are the Paperwork Reduction Act of 1995 (44 U.S.C. 3501, et seq.).

Russell Strach,
Director, Great Lakes Science Center.

[FR Doc. 2018-08678 Filed 4-24-18; 8:45 am]

BILLING CODE 4338-11-P